ENVIRONMENTAL PROTECTION AGENCY

[OPP-00675; FRL-6740-7]

Pesticides; Harmonization of Treated Seed Policies and Requirements in Canada and the United States; Notice of Availability

AGENCY: Environmental Protection Agency (EPA).

ACTION: Notice.

SUMMARY: This document announces the availability of a discussion paper that provides information on how pesticide seed treatment products are currently regulated in both Canada and the United States and reviews the degree of harmonization in pesticide regulation in the two countries. The discussion paper on treated seed contributes to the initiatives of the North American Free Trade Agreement (NAFTA) Technical Working Group (TWG) on Pesticides. The NAFTA TWG on Pesticides aims to develop a harmonized approach to the regulation of pesticides in Canada, Mexico, and the United States, while maintaining current high levels of protection of public health and the environment and supporting the principles of sustainable pest management. Canada has also made this harmonization document available for comment through its regulatory processes.

DATES: Comments, identified by docket control number OPP-00675, must be received on or before October 16, 2000.

ADDRESSES: Comments may be submitted by mail, electronically, or in person. Please follow the detailed instructions for each method as provided in Unit I. of the SUPPLEMENTARY INFORMATION. To ensure proper receipt by EPA, it is imperative that you identify docket control number OPP-00675 in the subject line on the first page of your response.

FOR FURTHER INFORMATION CONTACT: Jean M. Frane, Field and External Affairs Division (7506C), Office of Pesticide Programs, Environmental Protection Agency, 1200 Pennsylvania Ave., NW., Washington, DC 20460; telephone number: (703) 305-5944; e-mail address: frane.jean@epa.gov.

SUPPLEMENTARY INFORMATION:

I. General Information

A. Does this Action Apply to Me?

This action is directed to the public in general. This action may, however, be of interest to persons who produce seed treatment pesticides, or who use such products, both in the United States and Canada. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

To access information about the NAFTA TWG on Pesticides, go directly to the Home Page at http://www.epa.gov/oppfead1/international, and select “NAFTA Technical Woking Group (TWG).” The concurrent Canadian Regulatory Proposal is available on their homepage at http://www.hc-sc.gc.ca.

2. In person. The Agency has established an official record for this action under docket control number OPP-00675. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-00675 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described in this unit. Do not submit any information electronically that you consider to be CBI. Avoid the use of special characters and any form of encryption. Electronic submissions will be accepted in WordPerfect 6.1/8.0 or ASCII file format. All comments in electronic form must be identified by docket control number OPP-00675. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the document.

7. Make sure to submit your comments by the deadline in this notice.

8. To ensure proper receipt by EPA, be sure to identify the docket control number assigned to this action in the subject line on the first page of your response. You may also provide the name, date, and Federal Register citation.

II. What Action is the Agency Taking?

The Agency is making available a document entitled “Discussion Paper: Harmonization of Imported Treated Seed in Canada and the United States” prepared jointly by the Agency and Health Canada's Pest Management Regulatory Agency (PMRA). The purpose of this document is to provide information on how seed treatment products are currently regulated in both Canada and the United States and to review the degree of regulatory harmonization of seed treatment pesticides in the two countries. This discussion regarding treated seed should also contribute toward the realization of the initiatives of the NAFTA TWG on Pesticides aimed at harmonizing pesticide registration requirements in Canada, the United States, and Mexico.

For the purposes of this document, seed treatments include products which are primarily intended to provide protection against soil fungi and insect damage. Seeds for propagation may be treated domestically or imported as treated seed, may be treated domestically for subsequent export, or may be planted to produce crop that is to be exported.

Both Canada and the United States require registration of seed treatment products used for domestic seed treatment. Both countries allow exemptions for imported pesticide-treated seeds providing the seed is treated with a pesticide registered in the host country for that specific purpose and where certain other conditions are met (e.g., compliance with coloration and labeling requirements). This discussion paper contains two Appendices. Appendix I compares the legal frameworks in the United States and Canada. Appendix II is a comparison of the general data requirements for a new seed treatment product in the United States and Canada.

The Canadian Pest Management Regulatory Agency has issued this document as a Regulatory Proposal with a 45-day comment period.

List of Subjects

Environmental protection, intergovernmental relations, pests and pesticides.

Dated: August 23, 2000.
Anne E. Lindsay,
Director, Field and External Affairs Division.

[FR Doc. 00-22010 Filed 8-29-00; 8:45 am]

BILLING CODE 6560-50-S